DEPARTMENT OF COMMERCE

National Oceanic and Atmospheric Administration

50 CFR Part 648

[Docket No. 120814336-3495-03]

RIN 0648-BC27

Magnuson-Stevens Act Provisions, Fisheries of the Northeastern United States; Northeast (NE) Multispecies Fishery; Framework Adjustment 48; Final Rule; Correction

AGENCY: National Marine Fisheries Service (NMFS), National Oceanic and Atmospheric Administration (NOAA), Commerce.

ACTION: Final rule; stay and correction.

SUMMARY: This action corrects the “Dates” section in the interim final rule for Northeast (NE) Multispecies Framework Adjustment 48, published on May 3, 2013. It also stays a provision that inadvertently was made effective on May 1, 2013.

DATES: Section 648.83(a)(1) is stayed effective from June 10, 2013 to July 1, 2013. The effective date of the addition of § 648.84(e) published May 3, 2013 (78 FR 26158) is corrected to June 10, 2013.

FOR FURTHER INFORMATION CONTACT: Liz Sullivan, Liz.Sullivan@noaa.gov, phone: 978-282-8493, fax: 978-281-9135.

SUPPLEMENTARY INFORMATION:

Background

This action corrects the “Dates” section referenced in the final rule for Framework Adjustment 48, published on May 3, 2013 (78 FR 26118). The Framework Adjustment 48 final rule states: “DATES: Effective May 1, 2013, except for the amendment to § 648.84, which is effective July 1, 2013.” This is incorrect. The correct language should have read: “DATES: Effective May 1, 2013, except for the amendment to § 648.83, which is effective July 1, 2013.”

Framework Adjustment 48 reduced the NE multispecies minimum fish sizes for several groundfish stocks. The regulations retaining to minimum fish sizes are found in § 648.83. Measure 13 of the final rule implementing Framework Adjustment 48 explains the need to address discrepancies between state and Federal minimum fish sizes, stating that different fish sizes could complicate compliance and enforcement of this measure. Because of this concern, NMFS intended to delay the effective date of the measure to reduce minimum sizes until July 1, 2013, to allow state agencies additional time to consider and make corresponding adjustments to their minimum sizes. However, the “Dates” section of the Framework Adjustment 48 final rule inadvertently stated that measures in § 648.84 were being delayed instead. Section 648.84 relates to gear-marking requirements and gear restrictions. The text of Framework Adjustment 48 did not specify an alternative effective date for revisions to § 648.84, and the intention was to have those revisions become effective with the remainder of the amendments to part 648 on May 1, 2013.

This action corrects this inadvertent error by staying § 648.83(a)(1) from June 10, 2013 to July 1, 2013, and making § 648.84(e) effective on June 10, 2013.

Classification

Pursuant to 5 U.S.C. 533(d), the Assistant Administrator for Fisheries, NOAA (AA), finds good cause to waive the 30-day delay in effective date because it is contrary to the public interest to retain effective dates that merely reflect a typographical error. The correction to the effective date of the revisions to § 648.84 needs to be effective immediately in order to properly implement the rule as intended, and as described in the preamble to the published final rule (May 3, 2013, 78 FR 26118). A delay would be contrary to the public's interest because it would leave in place the improperly delayed July 1, 2013, effective date for gear-marking requirements and gear restrictions (§ 648.84), and an incorrect May 1, 2013, effective date for new reductions in the multispecies minimum fish sizes (§ 648.83). Therefore, pursuant to 5 U.S.C. 553(d), the AA finds good cause to waive the 30-day delay in effective date.

Authority: 16 U.S.C. 1801 et seq.

Dated: May 30, 2013.
Alan D. Risenhoover,
Director, Office of Sustainable Fisheries, Performing the functions and duties of the Deputy Assistant Administrator for Regulatory Programs, National Marine Fisheries Service.

[FR Doc. 2013-13195 Filed 6-7-13; 8:45 am]

BILLING CODE 3510-22-P